DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material regulations, notice is hereby given that the Office of Hazardous Materials Safety has received the application described herein.

DATES: Comments must be received on or before December 22, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on November 10, 2022.
Donald P. Burger,
Chief, General Approvals and Permits Branch.

Applicatio No. | Applicant | Regulation(s) affected | Nature of the special permits thereof
Special Permits Data—Granted
20645-M | Walmart Inc | 173.159a(c)(2), 173.185(c)(1)(iii), 173.185(c)(1)(iv), 173.185(c)(1)(v), 173.185(c)(3) | To modify the special permit to authorize an additional packaging.
20798-M | Americase, LLC | 172.101(j), 173.185(a)(1)(i) | To modify the special permit to authorize an additional packaging system.
21359-N | Thales Alenia Space | 172.101(j), 172.300, 172.400, 173.301(f), 173.302a(a)(1), 173.304a(a)(2), 173.56, 173.185(a)(1) | To authorize the transportation in commerce of the satellite transport container (STC) that contains the satellite and certain non-DOT specification containers (satellite assemblies) including low production lithium ion batteries contained in equipment that have not completed all UN tests and exceed 35 kg net weight by cargo-only aircraft, certain Division 2.2 and 2.3 liquefied and compressed gases, unapproved explosives, and other hazardous materials identified in paragraph 6 of this special permit.
21366-N | Our Next Energy Inc | 172.101(j), 173.185(a)(1), 173.185(b)(6) | To authorize the transportation in commerce of low production lithium ion battery assemblies exceeding 35 kg net weight aboard cargo-only aircraft.
21377-N | Proterra Inc | 172.101(j) | To authorize the transportation in commerce of lithium ion battery assemblies exceeding 35 kg net weight aboard cargo-only aircraft.
21381-N | Jungbunzlauer Inc | 173.241 | To authorize the transportation in commerce of lactic acid in non-DOT specification intermediate bulk containers.
21393-N | Bollore Logistics Germany Gmbh | 173.185(a)(1) | To authorize the transportation in commerce of prototype lithium batteries contained in equipment via cargo-only aircraft.
21394-N | Alucan Entec Sa | 173.306(a)(3)(ii), 173.306(a)(3)(ii) | To authorize the manufacture, mark, sale and use of a certain non-DOT specification inside metal containers similar to DOT Specification 2Q inner non-refillable metal receptacle.
21441-N | K&M Transportation Services, LLC | 173.196(b)(2) | To authorize the transportation in commerce of infectious substances in alternative packaging.
21452-N | Toyota Motor Corporation | 172.101(j) | To authorize the transportation in commerce of lithium ion battery assemblies exceeding 35 kg net weight aboard cargo-only aircraft.
Special Permits Data—Denied
20942-M | Better Horse Inc | 172.101(i), 172.200(a), 172.320(a), 172.400(a), 172.500(a), 173.60(a), 173.63(b) | To modify the special permit to include IMDG Code regulatory relief in the special permit.
21322-N | Federal Express Corporation | 175.75(c), 175.75(d) | To authorize the transportation in commerce of certain hazardous materials with relief from the quantity limitations and cargo location requirements under 49 CFR 175.75 (c) and (d).
Special Permits Data—Withdrawn
21419-M | Space Exploration Technologies Corp | 172.300, 172.400, 173.302a | To authorize the transportation in commerce of spacecraft and spacecraft components containing non-DOT specification cylinder which are not marked and labeled in accordance with Part 172.

[FR Doc. 2022-25331 Filed 11-21-22; 8:45 am]

BILLING CODE 4910-60-P